DEPARTMENT OF COMMERCE

National Oceanic and Atmospheric Administration

50 CFR Part 300

[Docket No. 220627-0140]

RIN 0648-BK84

International Fisheries; Pacific Tuna Fisheries; Fishing Restrictions for Tropical Tuna and Silky Shark in the Eastern Pacific Ocean for 2022 and Beyond

AGENCY: National Marine Fisheries Service (NMFS), National Oceanic and Atmospheric Administration (NOAA), Commerce.

ACTION: Final rule.

SUMMARY: NMFS is issuing regulations under the Tuna Conventions Act (TCA) of 1950, as amended, to implement Resolution C-21-04 (Conservation Measures for Tropical Tunas in the Eastern Pacific Ocean During 2022-2024) and Resolution C-21-06 (Conservation Measures for Shark Species, with Special Emphasis on the Silky Shark (Carcharhinus Falciformis), for the Years 2022 and 2023), which were adopted at the Resumed 98th Meeting of the Inter-American Tropical Tuna Commission (IATTC) in October 2021. This final rule implements the C-21-04 fishing management measures for tropical tuna (i.e., bigeye tuna (Thunnus obesus), yellowfin tuna (Thunnus albacares), and skipjack tuna (Katsuwonus pelamis)) in the eastern Pacific Ocean (EPO). The fishing restrictions apply to purse seine vessels of class sizes 4-6 (carrying capacity of 182 metric tons (mt) or greater) and longline vessels greater than 24 meters (m) in overall length that fish for tropical tuna in the EPO. To implement Resolution C-21-06, which extended the previous IATTC resolution on silky shark for 2 years, the existing regulations on silky shark will continue in effect with no proposed amendments. This final rule is necessary for the conservation of tropical tuna stocks and silky shark in the EPO and for the United States to satisfy its obligations as a member of the IATTC.

DATES: Effective date: This rule is effective July 25, 2022.

Compliance date: Compliance with 50 CFR 300.22(c)(2) through (4) and (d) is required as of August 8, 2022.

ADDRESSES: Copies of supporting documents that were prepared for this rule, including the Regulatory Impact Review, are available via the Federal e-Rulemaking Portal: https://www.regulations.gov, docket NOAA-NMFS-2021-0136, or contact Rachael Wadsworth, NMFS WCR SFD, NMFS West Coast Region Long Beach Office, 501 W Ocean Blvd., Suite 4200, Long Beach, CA 90802, or WCR.HMS@noaa.gov.

FOR FURTHER INFORMATION CONTACT: Rachael Wadsworth, NMFS WCR, at (206) 561-3457.

SUPPLEMENTARY INFORMATION:

Background on the IATTC

On March 28, 2022, NMFS published a proposed rule in the Federal Register (87 FR 17248) to implement Resolutions C-21-04 (Conservation Measures for Tropical Tunas in the Eastern Pacific Ocean During 2022-2024) and C-21-06 (Conservation Measures for Shark Species, with Special Emphasis on the Silky Shark (Carcharhinus Falciformis), for the Years 2022 and 2023). These Resolutions were adopted at the Resumed 98th Meeting of the Inter-American Tropical Tuna Commission in October 2021. The proposed rule contains additional background information, including information on the IATTC and its Convention Area, the international obligations of the United States as an IATTC member, and the need for regulations. The 30-day public comment period for the proposed rule closed on April 27, 2022.

The final rule is implemented under the Tuna Conventions Act (16 U.S.C. 951 et seq.). This final rule applies to U.S. purse seine vessels of class sizes 4-6 and longline vessels greater than 24 m in overall length fishing for tropical tunas in the IATTC Convention Area. The IATTC Convention Area is defined as waters of the EPO within the area bounded by the west coast of the Americas and by 50° N latitude, 150° W longitude, and 50° S latitude.

IATTC Resolutions on Tropical Tuna Conservation and Silky Shark

Many of the provisions of the newly adopted Resolution C-21-04 are identical in content to those contained in the previous IATTC resolutions on tropical tuna management that were in place from 2018-2021 (C-20-06; Tropical Tunas Conservation in the EPO during 2021, pursuant to RES C-20-05; and C-17-02; Multiannual Program for the Conservation of Tuna in the Eastern Pacific Ocean During 2018-2020). Resolution C-21-04 continues to include provisions for a 72-day EPO fishing closure period for purse seine vessels, exemptions from that closure period due to force majeure, a 31-day time/area EPO fishing closure period for purse seine vessels, catch limits of bigeye tuna caught in the EPO for longline vessels greater than 24 m in overall length, catch limit transfer requirements for bigeye tuna, a requirement that all tropical tuna be retained and landed (with some exceptions), and restrictions on the use and design of fish aggregating devices (FADs).

In addition to the existing measures, Resolution C-21-04 contains new measures not included in previous tropical tuna resolutions. These include a system of additional closure days for purse seine vessels that exceed an annual catch level of 1,200 mt for bigeye tuna and amendments to provisions related to force majeure exemptions from the 72-day closure period requirement. The Resolution also includes several new restrictions on FADs that include a gradual reduction in the number of active FADs allowed, additional reporting requirements for satellite buoys including activations and deactivations, and specification of circumstances where activations and deactivations are allowed. The Resolution also includes requirements for reporting cannery data and Vessel Monitoring Systems (VMS) data to the IATTC.

Final Regulations

This final rule revises part 300, subpart C of title 50 of the Code of Federal Regulations (CFR). Although Resolutions C-21-04 and C-21-06 are in effect through 2024 and 2023 respectively, these regulations will not expire concurrently with the Resolutions. Instead, because the IATTC will likely continue to adopt similar conservation and management measures upon expiration of those resolutions, and to avoid a lapse in the management of the fishery that may occur between expiration of the proposed regulations and implementation of new measures adopted by the IATTC, the regulations will remain in effect until they are amended or replaced.

The TCA gives NMFS the authority under paragraph 16 U.S.C. 955(a) to promulgate such regulations as may be necessary to carry out the United States international obligations under the Antigua Convention and the TCA, including recommendations and decisions adopted by the IATTC. In past years, NMFS has implemented IATTC resolutions for specific calendar years, and this approach has led to lapses in management in the affected fisheries in subsequent years. Given the time-consuming nature of the U.S. domestic rulemaking process, combined with the increasingly frequent delayed adoption of IATTC resolutions, implementing domestic measures that do not expire until new measures are in place is necessary to carry out the United States' international obligations under the Antigua Convention and the TCA because it will ensure there is no lapse in management of the tropical tuna fishery or silky shark measures in the EPO.

Thus, unless a date is specified in the text of the regulation, the regulations will remain in effect until they are amended or replaced. NMFS does intend to publish proposed and final rules to implement new resolutions adopted by the IATTC as expeditiously as possible; however, this approach allows existing regulations to remain in in effect and prevent any lapse in regulatory coverage caused by expirations. Because the IATTC adopted Resolution C-21-04 as a three-year conservation and management measure (2022-2024), the supporting analyses for this rule (discussed later in the Classification section) cover a three-year time period, with the understanding that these analyses would need to be supplemented should the measures remain in effect for more than three years. Likewise, the supporting analyses for Resolution C-21-06, which was adopted as a two-year conservation measure (2022-2023), cover a two-year period with the understanding that these analyses would also need to be supplemented should the measures remain in effect for more than two years.

Tuna Conservation Measures for 2022 and Beyond

The final rule implements the provisions of Resolution C-21-04 and applies to U.S. commercial fishing vessels using purse seine and longline gear to catch tropical tuna in the IATTC Convention Area. Several provisions included in Resolution C-21-04 do not need to be implemented through this rule because they were already codified in regulations and are not set to expire. The continuing and new tropical tuna provisions are described below.

First, this rule maintains a 750 mt catch limit on bigeye tuna caught by longline vessels greater than 24 m in overall length in the IATTC Convention Area (50 CFR 300.25(a)(2)). Second, the rule maintains the prohibition on purse seine vessels of class size 4 to 6 (i.e., vessels with a carrying capacity greater than 182 mt) from fishing for tropical tuna in the IATTC Convention Area for a period of 72 days (50 CFR 300.25(e)(1)). Specifically, vessels will continue to be prohibited from fishing in the EPO for 72 days during one of the following two periods: (1) from July 29 to October 8; or (2) from November 9 to January 19 of the following year (50 CFR 300.25(e)(1)(i) and (ii)). Third, the rule maintains a closure period (i.e., Corralito closure) for the purse seine fishery for tropical tuna within the area of 96° and 110° W and between 4° N and 3° S from 0000 hours on October 9 to 2400 hours on November 8 (50 CFR 300.25(e)(5)). The three regulations described in this paragraph are amended by this rule solely to specify that they apply beyond the 2021 calendar year and are no longer linked to specific years in the regulations. Due to the addition of new requirements in § 300.25(e) (discussed later in this section), the closure requirement described in § 300.25(e)(5) will also be moved to § 300.25(e)(6).

This rule also continues, for 2022 and beyond, several other regulations that were in effect in 2021 but that did not specify in the regulatory text the calendar years to which they apply. Therefore, under this rule, those regulations continue to be in effect with no changes or with minor clarifying revisions, as indicated below:

• Provisions related to transferring longline catch limits for bigeye tuna between IATTC members (50 CFR 300.25(a)(5)).

• Provisions related to selection of a 72-day closure period (50 CFR 300.25(e)(2) and (3)). Due to the addition of new regulations in § 300.25(e), these provisions have been moved from § 300.25(e)(2) and (3) to § 300.25(e)(3) and (4), and they also include minor non-substantive clarifying revisions.

• Provisions related to exemptions from the 72-day closure period requirement due to force majeure (50 CFR 300.25(e)(4)). Due to the addition of new requirements in § 300.25(e), these provisions have been moved from § 300.25(e)(4) to § 300.25(e)(5). The regulation also includes non-substantive revisions intended to clarify eligibility for a force majeure exemption.

• Requirements related to stowing gear during time/area closure periods (50 CFR 300.25(e)(6)). Due to the addition of new requirements in § 300.25(e), this requirement has been moved from § 300.25(e)(6) to § 300.25(e)(7).

• A requirement for all tropical tuna to be retained on board and landed (with certain exceptions) (50 CFR 300.27(a)).

• A number of restrictions related to FADs for purse seine vessels in the IATTC Convention Area (50 CFR 300.22(a)(3); 50 CFR 300.28). Due to changes to § 300.22, the FAD restrictions in § 300.22(a)(3) have been moved to § 300.22(c). The regulation also includes some non-substantive revisions intended to clarify the existing reporting requirements for Active FADs.

• The prohibitions against failing to comply with gear-stowing restrictions, retention requirements, and FAD-related restrictions (50 CFR 300.24(e), (f), (m), (nn), (oo), and (pp)).

This rule implements several new fishing restrictions on purse seine vessels, in accordance with Resolution C-21-04. The new restrictions include a system of additional closure days for class size 4-6 purse seine vessels that exceed specified annual catch levels for bigeye tuna (see 50 CFR 300.25(e)(2)). These catch levels begin at 1,200 mt of bigeye tuna with 10 additional closure days and increase in increments of 300 mt and 3 additional closure days beyond that level. In 2023 and 2024, U.S. purse seine vessels that exceed a certain annual catch level of bigeye tuna will be required to increase the number of closure days they observe in the following year, as specified in Table 1.

Table 1—Bigeye Tuna Catch Levels and Corresponding Additional Closure Days
Catch level (mt) exceeded | Additional closure days observed
1,200 | 10
1,500 | 13
1,800 | 16
2,100 | 19
2,400 | 22

In addition, the rule implements minor revisions to force majeure exemptions from the 72-day closure period requirement to clarify when to submit information to NMFS and that the exemption does not apply to the additional closure days specified in table 1 (see 50 CFR 300.25(e)(5)(i) through (vi)).

The rule also implements several new restrictions on FADs. These include changes to 50 CFR 300.28(c) to provide for a gradual reduction in the number of active FADs allowed from 2022 to 2024 and beyond, additional reporting requirements for satellite buoys, including specific information about activations and deactivations, in 50 CFR 300.22(c)(3) and (4), and specification of circumstances where activations and deactivations are allowed in the changes to 50 CFR 300.28(d) and (e). The rule also implements new requirements for vessel owners or operators to report cannery data directly to the IATTC and to also make the data available to NMFS upon request, no later than 10 days after completion of unloading and the last day of grading by size (see 50 CFR 300.22(d)). Cannery data reported to NMFS will be treated as confidential in accordance with NOAA Administrative Order 216-100 for confidential fisheries data, and data provided from NMFS to IATTC or directly to IATTC from vessel owners or operators will be kept confidential according to IATTC confidentiality standards such as those in C-15-07. Further instructions about reporting will be included in a compliance guide available after publication of the final rule. The changes to 50 CFR 300.21 include the addition of definitions for “activation of a satellite buoy,” “deactivation of a satellite buoy,” “reactivation of a satellite buoy,” “signal loss,” and revise the “Active FAD” definition. The corresponding prohibitions listed in 50 CFR 300.24 are also updated accordingly. Finally, this action also notifies the public that, consistent with the VMS reporting requirements specified in paragraph 25 of Resolution C-21-04, and beginning on January 1, 2023, NMFS will report VMS data, which vessels are currently required to submit under 50 CFR 300.26, to the IATTC. VMS data reported from NMFS to the IATTC will be kept confidential according to IATTC confidentiality standards.

Regional Vessel Register Regulations

In addition to implementing the measures in the tropical tuna resolution, the rule also slightly reorganizes 50 CFR part 300, subpart C, and clarifies existing regulations pertaining to the IATTC Regional Vessel Register (RVR). Specifically, the regulations in 50 CFR 300.23, “Persons and vessels exempted,” are now found in 50 CFR 300.20, “Purpose and scope,” and the regulations pertaining to the RVR, previously found in 50 CFR 300.22(b), are now found in 50 CFR 300.23, which has been renamed “IATTC Regional Vessel Register.” This change is intended to improve readability and provide easier access to the RVR regulations. The RVR regulations in 50 CFR 300.23 also include some minor housekeeping edits for clarifying purposes.

Silky Shark Regulations

The IATTC also extended existing conservation measures for silky shark without change (see Resolution C-21-06). Therefore, under this rule the silky shark regulations in 50 CFR 300.27(e) and (f) will continue to be in effect without change. Those regulations prohibit U.S. purse seine and longline vessels from retaining on board, transshipping, storing, or landing any part or whole carcass of a silky shark, with the exception of silky shark caught by purse seine that is not seen during fishing operations and is delivered into the vessel hold. Even though the text of those regulations remains unchanged, the heading for § 300.27(e) has been changed to make clear that paragraph applies to both purse seine and longline vessels.

Public Comments and Responses

NMFS received three comments during the 30-day comment period on the proposed rule, which closed on April 27, 2022. One comment was anonymous and two were from individual members of the public.

Comment 1: One individual commenter expressed concern for the impacts of silky shark bycatch in fisheries due to the life history and vulnerability of silky sharks to overfishing. The commenter supported the extension of silky shark measures to help prevent further declines.

Response: NMFS thanks the commenter for the support for extending silky shark measures. NMFS agrees that due to the incidental catch rate of silky shark in tuna purse seine fisheries and longline fisheries in the EPO, mitigation measures may be needed.

Comment 2: The anonymous commenter supported both tuna and silky shark measures in the proposed rule and recommended that more communication between NMFS and U.S. fishing communities take place so that increased transparency and a shift towards a more co-managed governance system can be observed.

Response: NMFS thanks the commenter for the support for extending tropical tuna and silky shark measures in the EPO. NMFS agrees that communication with stakeholders, such as those in fishing communities, are essential for management. NMFS West Coast Region (WCR) hosts public meetings at least once a year prior to annual meetings of the IATTC where stakeholders can provide input and help to inform U.S. positions going into IATTC meetings. These meetings are announced in the Federal Register and NMFS encourages those with expertise and input to participate in these meetings.

Comment 3: Another individual commenter recommended additional protections for silky shark to reduce bycatch in fisheries, such as additional FAD regulations to reduce entanglements.

Response: NMFS thanks the commenter for the support for extending silky shark measures. NMFS agrees that due to the incidental catch rate of silky shark in tuna purse seine fisheries using FADs in the EPO, mitigation measures may be needed. NMFS will continue working through the IATTC Working Group on FADs to consider additional measures to reduce entanglements and improve FAD fishing practices to reduce bycatch.

Changes From the Proposed Rule

No changes were made between the proposed and final rule.

Classification

The NMFS Assistant Administrator has determined that this rule is consistent with the TCA and other applicable laws.

This rule has been determined to be not significant for purposes of Executive Order 12866.

This rule includes changes to collection of information requirements for purposes of the Paperwork Reduction Act of 1995 and amendments to Office of Management and Business (OMB) Control Number 0648-0148 have been submitted to OMB for review and approval with regard to the changes identified in this final rule. There are no changes to information collection for OMB Control Number 0648-0214 (Pacific Islands Region Logbook Family of Forms) as a result of this final rule. NMFS is amending the supporting statement for the West Coast Region Pacific Tuna Fisheries Logbook, Fish Aggregating Device Form, and Observer Safety Reporting, OMB Paperwork Reduction Act (PRA) requirements (OMB Control No. 0648-0148) to include the new data collection requirements for deactivations and reactivations of satellite buoys associated with FADs and for cannery data as described in the preamble. NMFS estimates that the public reporting burden for the collection of information for satellite buoys associated with FADs will average 3 minutes per form and average 5 minutes for cannery data, including time for reviewing instructions, searching existing data sources, gathering and maintaining the data needed, and completing and reviewing the collection of information.

Send comments on these or any other aspects of the collection of information to the ADDRESSES above, and by email to OIRA_Submission@omb.eop.gov, or fax to (202) 395-5806. Notwithstanding any other provision of the law, no person is required to respond to, and no person shall be subject to penalty for failure to comply with, a collection of information subject to the requirements of the PRA, unless that collection of information displays a currently valid OMB control number. All currently approved NOAA collections of information may be viewed at: https://www.reginfo.gov/public/do/PRAMain.

Under section 553(d) of the Administrative Procedure Act, an agency must delay the effective date of regulations for 30 days after publication in the Federal Register, unless the agency finds good cause to make the regulations effective sooner. The Assistant Administrator for Fisheries has determined that good cause exists to issue this final rule without providing a 30-day delay after publication and providing a 15-day delay instead, with the exception of new or revised recordkeeping requirements at 50 CFR 300.22(c)(2) through (4) and (d), for which compliance will be deferred until 30 days after publication to comply with PRA requirements.

NMFS is obligated to implement these measures as soon as possible to conserve silky shark and tropical tuna stocks in the EPO and to comply with the international obligations of the United States under a binding resolution adopted by the IATTC under the Antigua Convention, which constitutes good cause. After two failed attempts to adopt the resolutions implemented through this rulemaking, the IATTC finally adopted those resolutions in late-October 2021, a little more than two months before existing resolutions were set to expire and the new resolutions would become effective. NMFS therefore did not have sufficient time to promulgate regulations implementing those measures before January 1, 2022. Commercial purse seine and longline vessels began fishing for tropical tuna in the EPO on January 1, 2022. The first purse seine closure period, which is a key part of the tropical tuna management measures, begins on July 29, 2022. If the rule is further delayed with a 30-day delay in the effective date, it will not be effective in time for the purse seine closure. NMFS will therefore be unable to enforce the closure period and U.S. fishing vessels risk being out of compliance with international agreements that are intended to prevent overfishing of tropical tuna by the purse seine fleet. Given this timing, delaying the effective date for a full 30 days would be contrary to the public interest in conserving tropical tuna stocks in the EPO. Such a delay would also be contrary to the public's interest in ensuring the U.S. is in compliance with its international obligations to implement the tropical tuna resolution.

The owners and operators of U.S. purse seine and longline vessels operating in the EPO are already familiar with how to comply with the measures being implemented through this rulemaking. Many of the measures are identical to the measures that have been in place for the past 4 years and therefore no additional steps are necessary to come into compliance with them. As described in the earlier in this rule under “Final Regulations.” the new measures being implemented by this rulemaking include: a system of additional closure days for purse seine vessels that exceed an annual catch level of 1,200 mt for bigeye tuna, amendments to provisions related to force majeure exemptions from the 72-day closure period requirement, restrictions on FADs that include a gradual reduction in the number of active FADs allowed, additional reporting requirements for satellite buoys including activations and deactivations, and specification of circumstances where activations and deactivations are allowed. In addition, the rule also includes requirements for reporting cannery data and VMS data to the IATTC.

As noted earlier in this section, NMFS is maintaining the 30-day delay in compliance date for the new or revised recordkeeping requirements at 50 CFR 300.22(c) through (4) and (d). The steps required to come into compliance with the remaining new regulations implemented by this rulemaking involve reading and becoming familiar with the following regulations amended by this rule to specify that they apply beyond the 2021. This includes regulations for the 750 mt catch limit on bigeye tuna caught by longline vessels greater than 24 m in overall length in the IATTC Convention Area (50 CFR 300.25(a)(2)), closure for fishing for tropical tuna in the IATTC Convention Area for a period of 72 days (50 CFR 300.25(e)(1)), and maintaining a closure period for the purse seine fishery for tropical tuna within the area of 96º and 110º W and between 4° N and 3° S from 0000 hours on October 9 to 2400 hours on November 8 (50 CFR 300.25(e)(5)).

NMFS is confident this can be accomplished within a week of publication of this rule. Many of the affected individuals attended the IATTC meetings in 2021 and were therefore apprised of these new measures when they were adopted. Industry representatives were also consulted in advance of the meetings through a U.S. Delegation call and were involved in briefings and discussions with the U.S. Department of State and NOAA officials on the periphery of the October 2021 IATTC meeting. Providing 15 days for entities to meet the requirements of this rule balances their need for time to comply with the need to effectively manage the tropical tuna stock and meet the United States' obligation to enact the first purse seine closure on July 29. As soon as the rule is published, NMFS will send a notice of this rule to owners of vessels that are affected by this rule.

The Chief Counsel for Regulation of the Department of Commerce certified to the Chief Counsel for Advocacy of the Small Business Administration during the proposed rule stage that this action would not have a significant economic impact on a substantial number of small entities. The factual basis for the certification was published in the proposed rule (March 28, 2022, 87 FR 17248) and is not repeated here. No comments were received regarding this certification. As a result, a regulatory flexibility analysis was not required and none was prepared.

List of Subjects in 50 CFR Part 300

Administrative practice and procedure, Fish, Fisheries, Fishing, Marine resources, Reporting and recordkeeping requirements, Treaties.

Dated: June 27, 2022.
Samuel D. Rauch, III,
Deputy Assistant Administrator for Regulatory Programs, National Marine Fisheries Service.

For the reasons set out in the preamble, the National Marine Fisheries Service amends 50 CFR part 300, subpart C, as follows:

PART 300—INTERNATIONAL FISHERIES REGULATIONS

Subpart C—Eastern Pacific Tuna Fisheries

1. The authority citation for part 300, subpart C, continues to read as follows:

Authority: 16 U.S.C. 951 et seq.

2. Revise § 300.20 to read as follows:

§ 300.20 Purpose and scope.

(a) The regulations in this subpart are issued under the authority of the Tuna Conventions Act of 1950, as amended (Act), and apply to persons and vessels subject to the jurisdiction of the United States. The regulations implement recommendations and other decisions of the Inter-American Tropical Tuna Commission (IATTC) for the conservation and management of stocks of tunas and tuna-like species and other species of fish taken by vessels fishing for tunas and tuna-like species in the IATTC Convention Area. The Secretary of Commerce, in consultation with the Secretary of State and, with respect to enforcement measures, the U.S. Coast Guard, may promulgate such regulations as may be necessary to carry out the U.S. international obligations under the Convention for the Establishment of an Inter-American Tropical Tuna Commission (Convention), the Convention for the Strengthening of the Inter-American Tropical Tuna Commission Established by the 1949 Convention between the United States of America and the Republic of Costa Rica (Antigua Convention), and the Act, including recommendations and other decisions adopted by the IATTC.

(b) This subpart does not apply to:

(1) Any person or vessel authorized by the IATTC, the Assistant Administrator, or any state of the United States to engage in fishing for research purposes; or

(2) Any person or vessel engaged in sport fishing for personal use.

3. Amend § 300.21 by:

a. Adding in alphabetical order a definition for “Activation of a satellite buoy”;

b. Revising the definition of “Active FAD”;

c. Adding in alphabetical order a definition for “Deactivation of a satellite buoy”;

d. Revising the definition of “Fish aggregating device (FAD)”; and

e. Adding definitions in alphabetical order for “Reactivation of a satellite buoy”, “Satellite buoy”, and “Signal loss”.

The revisions and additions read as follows:

§ 300.21 Definitions.

* * * * *

Activation of a satellite buoy means the act of initializing network service for receiving the satellite buoy's position. Activation is done by the buoy supplier company at the request of the vessel owner or manager. Following activation, the vessel owner pays for the communication service. The buoy can be transmitting or not, depending if it has been switched on.

Active FAD means a FAD deployed at sea where activation of the satellite buoy has occurred and the satellite buoy is transmitting its location and is being tracked by the vessel owner or operator. A FAD shall be considered an Active FAD unless/until the vessel owner or operator is no longer tracking its location and the vessel owner or operator notifies the IATTC that the FAD is deactivated.

* * * * *

Deactivation of a satellite buoy means the act of canceling network service for receiving the satellite buoy's position. Deactivation is done by the buoy supplier company at the request of the vessel owner or manager. Following deactivation, the communication service is no longer paid for and the buoy stops transmitting.

* * * * *

Fish aggregating device (FAD) means anchored, drifting, floating or submerged objects deployed and/or tracked by vessels, including through the use of radio and/or satellite buoys, for the purpose of aggregating target tuna species for purse-seine fishing operations.

* * * * *

Reactivation of a satellite buoy means the act of re-initializing network service for transmission of a satellite buoy's position after deactivation. The procedure is the same as the one to be followed for activation of a satellite buoy.

* * * * *

Satellite buoy means a buoy that uses a satellite network service to indicate its geographical position and is compliant with requirements in § 300.28(a) to be clearly marked with a unique identification code.

* * * * *

Signal loss means the situation in which, without any intervention of the owner, operator, or manager, a satellite buoy cannot be located by the owner on a monitoring device. The main causes of signal loss are buoy retrieved by another vessel or person (at-sea or on-shore), FAD sinking, and buoy failure.

* * * * *

4. Revise § 300.22 to read as follows:

§ 300.22 Recordkeeping and reporting requirements.

(a) Logbooks—(1) General logbook reporting. The master or other person in charge of a commercial fishing vessel or commercial passenger fishing vessel (CPFV) authorized to fish for tuna and tuna-like species in the Convention Area, or a person authorized in writing to serve as the agent for either person, must keep an accurate log of operations conducted from the fishing vessel.

(2) Longline and other non-purse seine logbooks. Maintaining and submitting any logbook required by existing state or Federal regulation will be sufficient to comply with paragraph (a)(1) of this section.

(3) Purse seine logbooks. For purse seine vessels greater than 400 st (362.8 mt) carrying capacity that are authorized to purse seine for tuna in the Convention Area, the log must include for each day the date, noon position (stated in latitude and longitude or in relation to known physical features), and the tonnage of fish on board, by species. The record and bridge log maintained and submitted at the request of the IATTC will be sufficient to comply with this paragraph (a)(3) and with paragraph (a)(1) of this section, provided the items of information specified by the IATTC are accurately entered in the log. For purse seine vessels of 400 st (362.8 mt) carrying capacity or less, maintaining and submitting any logbook required by existing state or Federal regulation will be sufficient to comply with paragraph (a)(1) of this section.

(b) Whale shark encirclement reporting. The owner and operator of a purse seine fishing vessel of the United States that encircles a whale shark (Rhincodon typus) while commercially fishing in the Convention Area must ensure that the incident is recorded on the log that is required by paragraphs (a)(1) and (3) of this section. The log must include the following information: The number of individual whale sharks with which the vessel interacted, details of how and why the encirclement happened, where it occurred, steps taken to ensure safe release, and an assessment of the life status of the whale shark upon release (including whether the animal was released alive, but subsequently died), as may be further specified by NMFS.

(c) FAD reporting—(1) Reporting on FAD interactions. U.S. purse seine vessel operators must provide the observer with the FAD identification code and, as appropriate, the other information in the FAD interaction standard format provided by the HMS Branch. U.S. vessel owners and operators, without an observer onboard, must ensure that any interaction or activity with a FAD is reported using a FAD interaction standard format provided by the HMS Branch. The owner and operator shall ensure that the form is submitted within 30 days of each landing or transshipment of tuna or tuna-like species to the address specified by the HMS Branch.

(2) Reporting on Active FADs. U.S. vessel owners and operators must record or maintain daily information on buoy location and acoustic data for all Active FADs that have been deployed in the water in the IATTC Convention Area and report that information to the IATTC, using a format and address provided by the HMS Branch. Daily information on buoy location must include date, time, buoy identifier, latitude, longitude, IMO number, and speed. Daily acoustic data will vary depending on the buoy company, but must include company, buoy identifier, latitude, longitude, date, time, and available layers of data. Further instructions on reporting data specific for different buoys companies are available in a compliance guide. This information must be submitted for each calendar month no later than 90 days after the month covered by the report.

(3) Deactivation of Active FADs. U.S. vessel owners and operators must report any deactivation of a satellite buoy, including the reason for deactivation, date, latitude, longitude, buoy identifier, and speed. This information must be reported to the IATTC, using a format and address provided by the HMS Branch. This information must be submitted for each calendar month no later than 90 days after the month covered by the report.

(4) Reactivation of Active FADs. U.S. vessel owners and operators must report any remote reactivation of a satellite buoy, including the reason for remote reactivation, date, latitude, longitude, buoy identifier, speed. This information must be reported to the IATTC, using a format and address provided by the HMS Branch. This information must be submitted for each calendar month no later than 90 days after the month covered by the report.

(d) Cannery reporting. U.S. vessel owners and operators must report processing plant data for fish caught in the IATTC Convention Area to the IATTC, and also make the data available to NMFS upon request, no later than 10 days after completion of unloading and the last day of grading by size. Instructions for reporting are available in a compliance guide.

5. Revise § 300.23 to read as follows:

§ 300.23 IATTC Regional Vessel Register.

(a) IATTC Regional Vessel Register (Vessel Register). The Vessel Register shall include, consistent with resolutions of the IATTC, all commercial fishing vessels and CPFVs authorized to fish for tuna and tuna-like species in the Convention Area. Except as provided under paragraph (a)(1) of this section, tuna purse seine vessels must be listed on the Vessel Register and categorized as active under paragraph (c)(2) of this section in order to fish for tuna and tuna-like species in the Convention Area.

(1) Exception from requirement for inclusion on the Vessel Register. Once per year, a vessel that is permitted and authorized under an alternative international tuna purse seine fisheries management regime in the Pacific Ocean may exercise an option to fish with purse seine gear to target tuna in the Convention Area without the vessel's capacity counted towards the cumulative carrying capacity described under paragraph (c)(1)(i) of this section. This exception is for a single fishing trip that does not exceed 90 days in duration. At any time during the calendar year, a vessel exercising this exception shall follow the procedures, where applicable, described in paragraph (c) of this section. No more than 32 of such trips are allowed each calendar year. After the commencement of the 32nd such trip, the Regional Administrator shall announce, in the Federal Register and by other appropriate means, that no more such trips are allowed for the remainder of the calendar year. Under 50 CFR 216.24(b)(6)(iii)(C), vessel assessment fees must be paid for vessels exercising this option.

(2) Requirements for inclusion of purse seine vessels on the Vessel Register. Inclusion on the tuna purse seine portion of the Vessel Register is valid through December 31 of each year. New tuna purse seine vessels may be added to the Vessel Register at any time to replace those previously removed by the Regional Administrator, provided that the total capacity of the replacement vessel or vessels does not exceed that of the tuna purse seine vessel or vessels being replaced.

(b) Vessel information to be collected for the Vessel Register—(1) Required information. Information on each commercial fishing vessel or CPFV authorized to use purse seine, longline, drift gillnet, harpoon, troll, rod and reel, or pole and line fishing gear to fish for tuna and tuna-like species in the Convention Area for sale shall be collected by the Regional Administrator to conform to IATTC resolutions governing the Vessel Register. This information initially includes, but is not limited to, the vessel name and registration number; the name and business address of the owner(s) and managing owner(s); a photograph of the vessel with the registration number legible; previous vessel name(s) and previous flag (if known and if any); port of registry; International Radio Call Sign; IMO number (if applicable); vessel length, beam, and moulded depth; gross tonnage, fish hold capacity in cubic meters, and carrying capacity in metric tons and cubic meters; engine horsepower; date and place where built; and type of fishing method or methods used. The required information shall be collected as part of existing information collections as described in this part and other parts of the CFR.

(2) IMO numbers. For the purpose of this section, an “IMO number” is the unique six or seven digit number issued for a vessel under the ship identification number scheme adopted by the International Maritime Organization (IMO) and managed by the entity identified by the IMO (currently IHS Maritime) and is also known as a Lloyd's Register number.

(3) Requirements for IMO numbers. The owner of a fishing vessel of the United States used for commercial fishing for tuna and tuna-like species in the IATTC Convention Area shall ensure that an IMO number has been issued for the vessel if the vessel's Certificate of Documentation issued under 46 CFR part 67 indicates that the vessel's total internal volume is 100 gross register tons or greater or 100 gross tonnage or greater. In addition, the owner of a fishing vessel of the United States engaging in fishing activities for tuna or tuna-like species in the IATTC Convention Area, and for which a high seas fishing permit under § 300.333 is required, shall ensure that an IMO number has been issued for the vessel if the vessel's total internal volume is less than 100 gross registered tons or less than 100 gross tons, but equal to or greater than 12 meters in overall length, as indicated in the vessel's Certificate of Documentation issued under 46 CFR part 67 or State documentation. A vessel owner may request that an IMO number be issued for a vessel by following the instructions given by the administrator of the IMO ship identification number scheme; those instructions are currently available on the website of IHS Markit, https://imonumbers.lrfairplay.com/.

(4) Request for exemption. In the event that a fishing vessel owner, after following the instructions given by the designated manager of the IMO ship identification number scheme, is unable to ensure that an IMO number is issued for the fishing vessel, the fishing vessel owner may request an exemption from the requirement from the Regional Administrator. The request must be sent by mail to NMFS HMS Branch, West Coast Region, 501 W Ocean Blvd., Suite 4200, Long Beach, CA 90802, or by email to wcr.hms@noaa.gov, and must include the vessel's name, the vessel's official number, a description of the steps taken to request an IMO number, and a description of any responses from the administrator of the IMO ship identification number scheme.

(5) Exemption process. Upon receipt of a request for an exemption under paragraph (b)(4) of this section, the Regional Administrator will, to the extent they determine appropriate, assist the fishing vessel owner in requesting an IMO number. If the Regional Administrator determines that the fishing vessel owner has followed all appropriate procedures and yet is unable to obtain an IMO number for the fishing vessel, they will issue an exemption from the requirements of paragraph (b)(3) of this section for the vessel and its owner and notify the owner of the exemption. The Regional Administrator may limit the duration of the exemption. The Regional Administrator may rescind an exemption at any time. If an exemption is rescinded, the fishing vessel owner must comply with the requirements of paragraph (b)(3) within 30 days of being notified of the rescission. If the ownership of a fishing vessel changes, an exemption issued to the former fishing vessel owner becomes void.

(c) Purse seine Vessel Register listing. For a tuna purse seine vessel to be listed on the Vessel Register and to be categorized as either “active” or “inactive” in the following calendar year, the vessel owner or managing owner must submit to the Regional Administrator the required permit applications, written notifications, and fees as described under 50 CFR 216.24(b) and under paragraphs (c)(2) and (3) of this section as well as payment of the vessel assessment fee, where applicable, to the IATTC.

(1) Restrictions for purse seine vessels. The following restrictions apply:

(i) The cumulative carrying capacity of all tuna purse seine vessels on the Vessel Register may not exceed 31,866 cubic meters in a given year; and

(ii) A purse seine vessel in excess of 400 st (362.8 mt) carrying capacity may not be added to active status on the Vessel Register unless the captain of the vessel has obtained a valid operator permit under 50 CFR 216.24(b)(2).

(2) Active status for purse seine vessels. As early as August 1 of each year, vessel owners or managing owners may request that a purse seine vessel qualified to be listed on the Vessel Register under paragraph (a)(2) of this section be categorized as active for the following calendar year. To request a purse seine vessel in excess of 400 st (362.8 mt) carrying capacity be listed on the Vessel Register and be categorized as active, the vessel owner or managing owner must submit to the Regional Administrator the vessel permit application and payment of the permit application fee and submit to the IATTC payment of the vessel assessment fee.

(i) To request a purse seine vessel of 400 st (362.8 mt) carrying capacity or less be listed on the Vessel Register and be categorized as active, the vessel owner or managing owner must submit to the HMS Branch written notification including, but not limited to, a vessel photograph, the vessel information as described under paragraph (b) of this section, and the owner or managing owner's signature, business email address, and business telephone and fax numbers. If a purse seine vessel of 400 st (362.8 mt) carrying capacity or less is required by the Agreement on the IDCP to carry an observer, the vessel owner or managing owner must also submit payment of the vessel assessment fee to the IATTC.

(ii) The Regional Administrator must receive the vessel permit application or written notification and payment of the permit application fee and payment confirmation of the vessel assessment fee no later than September 15 for vessels for which a DML was requested for the following year and no later than November 30 for vessels for which a DML was not requested for the following year. Submission of the vessel permit application or written notification and payment of the vessel assessment fee and permit application fee will be interpreted by the Regional Administrator as a request for a vessel to be categorized as active.

(3) Inactive status for purse seine vessels. (i) From August 1 through November 30 of each year, vessel owners or managing owners may request that purse seine vessels qualified to be listed on the Vessel Register under paragraph (a)(2) of this section be categorized as inactive for the following calendar year. To request a purse seine vessel in excess of 400 st (362.8 mt) carrying capacity be listed on the Vessel Register and categorized as inactive for the following calendar year, the vessel owner or managing owner must submit to the IATTC payment of the associated vessel assessment fee. Payment of the vessel assessment fee consistent with inactive status will be interpreted by the Regional Administrator as a request for the vessel to be categorized as inactive.

(ii) To request a tuna purse seine vessel of 400 st (362.8 mt) carrying capacity or less be listed on the Vessel Register and categorized as inactive for the following calendar year, the vessel owner or managing owner must submit to the HMS Branch a written notification including, but not limited to, the vessel name and registration number and the vessel owner or managing owner's name, signature, business address, business email address, and business telephone and fax numbers. Payment of the vessel assessment fee is not required for vessels of 400 st (362.8 mt) carrying capacity or less to be categorized as inactive.

(iii) At any time during the year, a vessel owner or managing owner may request that a tuna purse seine vessel qualified to be listed on the Vessel Register under paragraph (a)(2) of this section be categorized as inactive for the remainder of the calendar year, provided the cumulative carrying capacity described in paragraph (c)(1)(i) of this section is not exceeded. To request a purse seine vessel in excess of 400 st (362.8 mt) carrying capacity be listed on the Vessel Register and categorized as inactive for the remainder of the calendar year, the vessel owner or managing owner must submit to the IATTC payment of the associated vessel assessment fee. To request a tuna purse seine vessel of 400 st (362.8 mt) carrying capacity or less be listed on the Vessel Register and categorized as inactive for the remainder of the calendar year, the vessel owner or managing owner must submit to the HMS Branch written notification as described in paragraph (c)(3)(i) of this section. Payment of the vessel assessment fee is not required for such vessels.

(iv) The vessel owner or managing owner of a purse seine vessel listed as active on the Vessel Register that has sunk may request the vessel be listed as sunk and categorized as inactive on the Vessel Register. To request the vessel be listed as sunk and categorized as inactive on the Vessel Register, the vessel owner or managing owner must submit to the HMS Branch written notification within 30 days of the vessel's sinking. Written notification shall include, but is not limited to, the vessel name, date of sinking, registration number, the vessel owner or managing owner's name, signature, business address, business email address, and business telephone and fax numbers. For subsequent calendar years, vessel assessment fee payment shall be made as described in paragraph (c)(3) of this section.

(v) A vessel listed as inactive or sunk on the Vessel Register for more than two consecutive calendar years after January 21, 2020, requesting active status will be prioritized according to the hierarchy under paragraph (e) of this section. A vessel listed as inactive or sunk on the Vessel Register for more than two consecutive calendar years after January 21, 2020, will be removed from the Vessel Register as described in paragraph (f)(9) of this section.

(d) Frivolous requests for purse seine vessels on the Vessel Register. (1) Except as described under paragraph (d)(2) of this section, requests for active status under paragraph (c)(2) of this section will be considered frivolous if, for a vessel categorized as active on the Vessel Register in a given calendar year:

(i) Less than 20 percent of the vessel's total landings, by weight, in that same year is comprised of tuna harvested by purse seine in the Convention Area; or

(ii) The vessel did not fish for tuna at all in the Convention Area in that same year.

(2) Requests described under paragraph (d)(1) of this section will not be considered frivolous requests if:

(i) The vessel's catch pattern fell within the criteria described in paragraph (d)(1) of this section as a result of force majeure or other extraordinary circumstances as determined by the Regional Administrator; or

(ii) The vessel's carrying capacity is 400 st (362.8 mt) or less and there was at least one documented landing of tuna caught by the vessel in the Convention Area in the calendar year prior to the year in which the request is made and through November 15 of the year of the request, unless the vessel was not able to make a landing as a result of force majeure or other extraordinary circumstances as determined by the Regional Administrator.

(iii) The vessel was listed as inactive before January 21, 2020, and has not been listed as inactive for more than two consecutive calendar years since January 21, 2020.

(e) Listing hierarchy for purse seine vessels on the Vessel Register. Requests for active status and inactive status will be prioritized according to the following hierarchy:

(1) Requests received for replacement vessels with a carrying capacity equal to or less than a vessel removed from the Vessel Register under a request described in paragraph (j) of this section;

(2) Requests received for vessels that were categorized as active in the previous year, unless the request was determined to be frivolous by the Regional Administrator under paragraph (c)(2) of this section;

(3) Requests received for vessels that were categorized as inactive under paragraph (c)(3) of this section in the previous year, unless that vessel has been listed as inactive or sunk under paragraph (c)(3) for more than 2 consecutive calendar years after January 21, 2020;

(4) Requests for vessels not described in paragraphs (e)(1) through (3) of this section, and requests, if applicable, by replacement vessels for the portion of the carrying capacity greater than the amount authorized to the vessel that was replaced under paragraph (j) of this section, will be prioritized on a first-come, first-served basis according to the date and time of receipt, provided that the associated vessel assessment fee is paid by the applicable deadline described in 50 CFR 216.24(b)(6)(iii); and

(5) Requests received from owners or managing owners of vessels that were determined by the Regional Administrator to have made a frivolous request for active status under paragraph (d) of this section or that have been listed as inactive or sunk as described in paragraph (c)(3) of this section for more than two consecutive calendar years after January 21, 2020.

(f) Removal from the Vessel Register. A vessel may be removed from the Vessel Register by the Regional Administrator under any of the following circumstances:

(1) The vessel has sunk and the vessel owner or managing owner has not submitted written notification as described in paragraph (c)(3)(iv) of this section.

(2) By written request of the vessel's owner or managing owner.

(3) Following a final agency action on a permit sanction for a violation.

(4) For failure to pay a penalty or for default on a penalty payment agreement resulting from a final agency action for a violation.

(5) The U.S. Maritime Administration or the U.S. Coast Guard notifies NMFS that:

(i) The owner has submitted an application for transfer of the vessel to foreign registry and flag; or

(ii) The documentation for the vessel has been or will be deleted for any reason.

(6) The vessel does not have a valid state registration or U.S. Coast Guard certificate of documentation.

(7) For tuna purse seine vessels, by written notification from the owner or managing owner of the intent to transfer the vessel to foreign registry and flag, as described in paragraph (i) of this section.

(8) For tuna purse seine vessels, the request for active status on the Vessel Register has been determined to be a frivolous request.

(9) For tuna purse seine vessels, the vessel has been listed as inactive or sunk on the Vessel Register for more than two consecutive calendar years after January 21, 2020.

(g) Process for removal from the Vessel Register. When a vessel is removed from the Vessel Register under paragraph (f) of this section, the Regional Administrator shall promptly notify the vessel owner in writing of the removal and the reasons therefore. For a removal from the Vessel Register under § 300.30(f)(3), the Regional Administrator will not accept a request to reinstate the vessel to the Vessel Register for the term of the permit sanction. For a removal from the Vessel Register under § 300.30(f)(4), the Regional Administrator will not accept a request to reinstate the vessel to the Vessel Register until such time as payment is made on the penalty or penalty agreement, or such other duration as NOAA and the vessel owner may agree upon.

(h) Procedures for replacing purse seine vessels removed from the Vessel Register. (1) A purse seine vessel that was previously listed on the Vessel Register, but not included for a given year or years, may be added back to the Vessel Register and categorized as inactive at any time during the year, provided the cumulative carrying capacity described in paragraph (c)(1)(i) of this section is not exceeded. The owner or managing owner of a purse seine vessel of more than 400 st (362.8 mt) carrying capacity must pay the vessel assessment fee associated with inactive status. The owner or managing owner of a purse seine vessel of 400 st (362.8 mt) carrying capacity or less must submit written notification as described in paragraph (c)(3) of this section.

(2) A purse seine vessel may be added to the Vessel Register and categorized as active in order to replace a vessel or vessels removed from active or inactive status under paragraph (f) of this section, provided the total carrying capacity described in paragraph (c)(1)(i) of this section is not exceeded and the owner submits a complete request under paragraph (h)(4) of this section.

(3) Notification of available capacity after a purse seine vessel has been removed from the Vessel Register will be conducted as follows:

(i) After a purse seine vessel categorized as active or inactive is removed from the Vessel Register, the Regional Administrator will notify owners or managing owners of vessels eligible for, but not included on, the Vessel Register that replacement capacity is available on the active or inactive list of the Vessel Register.

(ii) When a purse seine vessel categorized as active or inactive on the Vessel Register has been removed from the Vessel Register under the procedures described in paragraph (j) of this section, the Regional Administrator will not make available the capacity of the vessel removed from the Vessel Register, and will reserve that capacity for a replacement vessel for a period of 2 years from the date of notification described in paragraph (j)(4) of this section. The replacement vessel will be eligible to be listed as active on the Vessel Register at the same carrying capacity or less as that of the vessel it is replacing. If the replacement vessel has a carrying capacity greater than the vessel being replaced, the vessel owner or managing owner may request additional carrying capacity allocated to the vessel in accordance with paragraph (e)(4) of this section. If additional carrying capacity is not available, the replacement vessel must reduce its carrying capacity to no more than the previously authorized carrying capacity amount for the vessel being replaced by complying with the protocol for sealing wells adopted by the IATTC, prior to it being listed as active on the Vessel Register. Such a vessel may apply for additional carrying capacity as it becomes available under the procedures described in paragraph (e)(4).

(4) Vessel owners or managing owners may request a purse seine vessel of 400 st (362.8 mt) carrying capacity or less be categorized as active to replace a vessel or vessels removed from the Vessel Register by submitting to the HMS Branch written notification as described in paragraph (c)(2) of this section and, only if the vessel is required by the Agreement on the IDCP to carry an observer, payment of the vessel assessment fee to the IATTC within 10 business days after submission of the written notification. The replacement vessel will be eligible to be categorized as active on the Vessel Register at the same carrying capacity or less as that of the vessel or vessels it is replacing. If the replacement vessel has a carrying capacity greater than the vessel being replaced, the vessel owner or managing owner may request additional carrying capacity allocated to the vessel in accordance with paragraph (e)(4) of this section. If additional carrying capacity is not available, the replacement vessel must reduce its capacity to no more than the previously authorized carrying capacity for the vessel or vessels being replaced by complying with the protocol for sealing wells adopted by the IATTC, prior to it being listed as active on the Vessel Register. Such a vessel may apply for additional carrying capacity as it becomes available. Payments received will be subject to a 10 percent surcharge for vessels that were listed as active on the Vessel Register in the previous calendar year, but not listed as inactive at the beginning of the calendar year for which active status was requested.

(5) Vessel owners or managing owners may request a purse seine vessel in excess of 400 st (362.8 mt) carrying capacity be categorized as active to replace a vessel or vessels removed from the Vessel Register by submitting to the Regional Administrator the vessel permit application as described under 50 CFR 216.24(b) and payment of the vessel assessment fee to the IATTC and payment of the permit application fee to the Regional Administrator within 10 business days after submission of the vessel permit application for the replacement vessel. The replacement vessel will be eligible to be categorized as active on the Vessel Register at the same carrying capacity as that of the vessel or vessels it is replacing. If the replacement vessel has a carrying capacity greater than the vessel being replaced, the vessel owner or managing owner may request additional carrying capacity allocated to the vessel in accordance with paragraph (e)(4) of this section. If additional carrying capacity is not available, the replacement vessel must reduce its carrying capacity to no more than the previously authorized carrying capacity for the vessel or vessels being replaced by complying with the protocol for sealing wells adopted by the IATTC, prior to it being listed as active on the Vessel Register. Such a vessel may apply for additional carrying capacity as it becomes available. The replacement vessel will also only be eligible to be categorized as active on the Vessel Register if the captain of the replacement vessel possesses an operator permit under 50 CFR 216.24(b). Payments received will be subject to a 10 percent surcharge for vessels that were listed as active on the Vessel Register in the previous calendar year, but not listed as inactive at the beginning of the calendar year for which active status was requested.

(6) The Regional Administrator will forward requests to replace vessels removed from the Vessel Register within 15 days of receiving each request.

(i) Transfers of purse seine vessels to a foreign registry and flag. The owner or managing owner of a purse seine vessel listed on the Vessel Register must provide written notification to the Regional Administrator prior to submitting an application for transfer of the vessel to foreign registry and flag. Written notification must be submitted to the Regional Administrator at least 10 business days prior to submission of the application for transfer. The written notification must include the vessel name and registration number; the expected date that the application for transfer will be submitted; and the vessel owner or managing owner's name and signature. Vessels that require approval by the U.S. Maritime Administration prior to transfer of the vessel to foreign registry and flag will not be subject to the notification requirement described in this paragraph (i).

(j) Aging fleet provision for purse seine vessels. (1) The vessel owner or managing owner of a purse seine vessel listed as active or inactive on the Vessel Register may request to replace the current vessel with a new or used vessel without losing the vessel's placement in the hierarchy of requests for active status as described in paragraph (e) of this section. The replacement vessel will be eligible to be listed as active on the Vessel Register at the same carrying capacity or less as that of the vessel it is replacing. If the replacement vessel has a carrying capacity greater than the vessel being replaced, the vessel owner or managing owner may request additional carrying capacity be allocated to the vessel in accordance with paragraph (e)(4) of this section. If additional carrying capacity is not available at the time the request to be listed as active on the Vessel Register is received by the Regional Administrator, the replacement vessel must reduce its carrying capacity to no more than the previously authorized carrying capacity of the vessel being replaced by complying with the protocol for sealing wells adopted by the IATTC, prior to it being listed as active on the Vessel Register. Such a vessel may apply for additional carrying capacity as it becomes available under the procedures described in paragraph (e)(4). This aging fleet provision may be used only once per vessel by the vessel owner or managing owner.

(2) A request made under this provision may include a request to remove the vessel from the Vessel Register. The Regional Administrator will ensure the amount of carrying capacity equal to or less of the vessel being replaced will be available for the replacement vessel for up to 2 years from the date of notification described in paragraph (j)(4) of this section.

(3) To request a vessel be replaced under this provision, the vessel owner or managing owner must submit to the HMS Branch written notification including, but not limited to, the vessel name and registration number, the vessel owner or managing owner's name, signature, business address, business email address, and business telephone and fax numbers, and the expected month and year the replacement vessel will be ready to fish in the Convention Area.

(4) Within 30 days of receiving each request described in paragraph (j)(3) of this section, the Regional Administrator shall notify the vessel owner or managing owner in writing whether the request has been accepted or denied, and the reasons therefore.

6. Amend § 300.24 by revising paragraphs (n), (ff), (kk), and (ll) to read as follows:

§ 300.24 Prohibitions.

* * * * *

(n) Use a fishing vessel of class size 4-6 to fish with purse seine gear in the IATTC Convention Area in contravention of § 300.25(e).

* * * * *

(ff) Fail to provide information to an observer or record or report data on FADs as required in § 300.22(c).

* * * * *

(kk) When deploying a FAD, activate the satellite buoy attached to a FAD in a location other than on a purse seine vessel at sea as required in § 300.28(b).

(ll) Fail to activate a satellite buoy before deploying a FAD at sea as required in § 300.28(b).

* * * * *

7. Amend § 300.25 by revising paragraphs (a)(2) and (e) to read as follows:

§ 300.25 Fisheries management.

(a) * * *

(2) There is a limit of 750 metric tons of bigeye tuna that may be caught by longline gear in the Convention Area by U.S. commercial fishing vessels that are over 24 meters in overall length. The catch limit within a calendar year is subject to increase if the United States receives a transfer of catch limit from another IATTC member or cooperating non-member, per paragraph (a)(5) of this section.

* * * * *

(e) Purse seine closures—(1) 72-day closure. A U.S. commercial purse seine fishing vessel that is of class size 4-6 (more than 182 metric tons carrying capacity) may not be used to fish with purse seine gear in the Convention Area for 72 days during one of the following two periods:

(i) From 0000 hours Coordinated Universal Time (UTC) July 29 to 2400 hours UTC October 8; or

(ii) From 0000 hours UTC November 9 to 2400 hours UTC January 19 of the following year.

(2) Additional closure days for vessels that exceed bigeye tuna catch levels. (i) In 2023 and 2024, U.S. purse seine vessels that exceed a certain annual catch level of bigeye tuna must increase the number of closure days they observe in the following year, as specified in table 1 to this paragraph (e)(2).

(ii) The additional days of closure must be added to one of the two closure periods indicated in paragraph (e)(1) of this section. For vessels observing the first closure period, the additional days must be added at the beginning of the closure period. For vessels observing the second closure period, the additional days must be added to the end of the closure period. The HMS Branch will confirm the determination of annual catch levels for U.S. purse vessels based on information provided by the IATTC and notify any U.S. vessel that exceeds a given catch level.

Table 1 to Paragraph (e)(2)
Catch level (mt) exceeded | Additional closure days observed
1,200 | 10
1,500 | 13
1,800 | 16
2,100 | 19
2,400 | 22

(3) Choice of closure period. A vessel owner, manager, or association representative of a vessel that is subject to the requirements of paragraph (e)(1) of this section must provide written notification to the Regional Administrator declaring which one of the two closure periods identified in paragraph (e)(1) their vessel will observe in that year. This written notification must be submitted by email to wcr.hms@noaa.gov and must be received no later than May 15 of the relevant calendar year. The written notification must include the vessel name and registration number, the closure dates that will be observed by that vessel, and the vessel owner or managing owner's name, signature, business address, and business telephone number.

(4) Default closure period. If written notification is not submitted per paragraph (e)(3) of this section for a vessel subject to the requirements under paragraph (e)(1) of this section, that vessel must observe the second closure period under paragraph (e)(1)(ii) of this section.

(5) Request for exemption due to force majeure. A vessel may request a reduced closure period if a force majeure event renders the vessel unable to proceed to sea outside one of the two closure periods specified in paragraph (e)(1) of this section for at least 75 continuous days. A vessel will only be eligible for an exemption due to force majeure if the vessel was disabled in the course of fishing operations by mechanical and/or structural failure, fire, or explosion.

(i) A request for an exemption due to force majeure must be made to the Highly Migratory Species Branch no later than 20 calendar days after the end of the period of inactivity due to force majeure. The request must be made via email to wcr.hms@noaa.gov or by contacting the HMS Branch. The request must include the name and official number of the vessel, vessel owner or manager's name and signature, and evidence to support the request, which may include but is not limited to photographs, repair bills, certificates of departure from port, and in the case of a marine casualty, a completed copy of the U.S. Coast Guard Form CG-2692A (See 46 CFR 4.05-10).

(ii) If accepted by the Sustainable Fisheries Division, the request for exemption due to force majeure will be forwarded to the IATTC Director. If declined by the Sustainable Fisheries Division, the applicant may provide additional information or documentation to the Sustainable Fisheries Division with a request that the initial decision be reconsidered by email to wcr.hms@noaa.gov, or by contacting the HMS Branch Chief.

(iii) If the request for an exemption due to force majeure is accepted by the IATTC, the vessel may observe a reduced closure period of 40 consecutive days in the same year during which the force majeure event occurred, in one of the two closure periods described in paragraph (e)(1) of this section. After a request is accepted by the IATTC, the vessel owner or manager must specify to the HMS Branch which 40 consecutive days the vessel will observe for their reduced closure period.

(iv) If the request for an exemption due to force majeure is accepted by the IATTC and the vessel has already observed a closure period described in paragraph (e)(1) of this section in the same year during which the force majeure event occurred, the vessel may observe a reduced closure period of 40 consecutive days the following year, in one of the two closure periods described in paragraph (e)(1).

(v) An exemption due to force majeure will only apply to the 72-day closure period required under paragraph (e)(1) of this section. Vessels that are both granted a reduced 40-day initial closure period due to force majeure under this paragraph (e)(5) and required to observe additional closure days for exceeding bigeye tuna catch levels under paragraph (e)(2) of this section must observe the reduced closure period consecutively with the additional closure days by adding the additional closure days to either the beginning of the first reduced closure period or the end of the second reduced closure period.

(vi) Any purse seine vessel for which a force majeure request is accepted by the IATTC must carry an observer aboard authorized pursuant to the International Agreement on the International Dolphin Conservation Program, unless that vessel has been granted an exemption from the Regional Administrator.

(6) 31-day area closure. A U.S. fishing vessel of class size 4-6 (more than 182 metric tons carrying capacity) may not be used from 0000 hours on October 9 to 2400 hours on November 8 to fish with purse seine gear within the area bounded at the east and west by 96° and 110° W longitude and bounded at the north and south by 4° N and 3° S latitude.

(7) Requirement to stow gear. At all times while a vessel is in a time/area closed period established under paragraph (e)(1) or (6) of this section, unless fishing under the exception under paragraph (e)(5) of this section, the fishing gear of the vessel must be stowed in a manner as not to be readily available for fishing. In particular, the boom must be lowered as far as possible so that the vessel cannot be used for fishing, but so that the skiff is accessible for use in emergency situations; the helicopter, if any, must be tied down; and launches must be secured.

* * * * *

8. Amend § 300.27 by revising paragraph (e) to read as follows:

§ 300.27 Incidental catch and tuna retention requirements.

* * * * *

(e) Silky shark restrictions for purse seine and longline vessels. The crew, operator, and owner of a commercial purse seine or longline fishing vessel of the United States used to fish for tuna or tuna-like species is prohibited from retaining on board, transshipping, storing, or landing any part or whole carcass of a silky shark (Carcharhinus falciformis) that is caught in the IATTC Convention Area, except as provided in paragraph (f) of this section.

* * * * *

9. Amend § 300.28 by:

a. Revising paragraphs (b) and (c);

b. Redesignating paragraphs (d) and (e) as paragraphs (f) and (g);

c. Adding new paragraphs (d) and (e); and,

d. Revising the introductory text to newly redesignated paragraph (g).

The revisions and additions read as follows:

§ 300.28 FAD restrictions.

* * * * *

(b) Activating FADs for purse seine vessels. When deploying a FAD in the IATTC Convention Area, a vessel owner, operator, or crew must activate the satellite buoy while the FAD is onboard the purse seine vessel and before it is deployed in the water.

(c) Restrictions on Active FADs for purse seine vessels. U.S. vessel owners and operators of purse-seine vessels with the following well volume in cubic meters (m³) must not have more than the following number of Active FADs per vessel in the IATTC Convention Area at any one time during the following years.

Table 1 to Paragraph (c)
Well volume (m³) | Active FAD limit
For 2022 calendar year
1,200 or more | 400
426-1,199 | 270
213-425 | 110
0-212 | 66
For 2023 calendar year
1,200 or more | 340
426-1,199 | 255
213-425 | 105
0-212 | 64
For 2024 calendar year and beyond
1,200 or more | 340
426-1,199 | 210
213-425 | 85
0-212 | 50

(d) Restrictions on satellite buoy deactivations. A vessel owner or operator that deactivates a satellite buoy attached to a FAD must comply with the reporting requirements for buoy deactivations in § 300.22(c)(3). A U.S. vessel owner or operator shall only deactivate a satellite buoy attached to a FAD that was activated in the IATTC Convention Area in the following circumstances:

(1) Complete loss of signal reception;

(2) Beaching;

(3) Appropriation of a FAD by a third party;

(4) Temporarily during a selected closure period;

(5) For being outside of the area between the meridians 150° W and 100° W, and the parallels 8° N and 10° S; the area between the meridian 100° W and the coast of the American continent and the parallels 5° N and 15° S; or

(6) Transfer of ownership.

(e) Restrictions on satellite buoy reactivations. A vessel owner or operator that reactivates a satellite buoy must comply with the reporting requirements for satellite buoy reactivations in § 300.22(c)(4). A U.S. vessel owner or operator shall only remotely reactivate a satellite buoy at sea that was activated in the IATTC Convention Area in the following circumstances:

(1) To assist in the recovery of a beached FAD;

(2) After a temporary deactivation during the closure period; or

(3) Transfer of ownership while the FAD is at sea.

* * * * *

(g) FAD design requirements to reduce entanglements. All FADs onboard or deployed in the IATTC Convention Area by U.S. vessel owners, operators, or crew, must comply with the following design requirements:

* * * * *

[FR Doc. 2022-14115 Filed 7-7-22; 8:45 am]

BILLING CODE 3510-22-P